DEPARTMENT OF COMMERCE

International Trade Administration

[A-351-857]

Raw Honey From Brazil: Amended Preliminary Determination of Sales at Less Than Fair Value

AGENCY: Enforcement and Compliance, International Trade Administration, Department of Commerce.

SUMMARY: On November 23, 2021, the Department of Commerce (Commerce) published its preliminary determination in the less-than-fair-value (LTFV) investigation of raw honey from Brazil in the Federal Register. Commerce is amending this preliminary determination to correct a significant ministerial error.

DATES: Applicable December 17, 2021.

FOR FURTHER INFORMATION CONTACT: Justin M. Neuman or Genevieve Coen, AD/CVD Operations, Office V, Enforcement and Compliance, International Trade Administration, U.S. Department of Commerce, 1401 Constitution Avenue NW, Washington, DC 20230; telephone: (202) 482-0486 or (202) 482-3251, respectively.

SUPPLEMENTARY INFORMATION:

Background

On November 23, 2021, Commerce published in the Federal Register the preliminary determination in the LTFV investigation of raw honey from Brazil.¹ Also on this same date, one of the mandatory respondents in the case, Supermel,² filed a timely ministerial error allegation concerning the Preliminary Determination.³

¹ See Raw Honey from Brazil: Preliminary Affirmative Determination of Sales at Less-Than-Fair-Value Investigation, Postponement of Final Determination, and Extension of Provisional Measures, 86 FR 66533 (November 23, 2021) (Preliminary Determination), and accompanying Preliminary Decision Memorandum (PDM).

² Supermel is comprised of two entities: Apiário Diamante Comercial Exportadora Ltda and Apiário Diamante Produção e Comercial de Mel Ltda. See Memorandum, “Less-Than-Fair-Value Investigation of Raw Honey from Brazil: Preliminary Affiliation and Single Entity Memorandum for Apiário Diamante Comercial Exportadora Ltda and Apiário Diamante Produção e Comercial de Mel Ltda,” (Single Entity Memorandum) dated November 17, 2021.

³ See Supermel's Letter, “Anti-Dumping Duty Investigation of Raw Honey from Brazil: Supermel's Ministerial Error Comments,” dated November 23, 2021 (Supermel's Ministerial Error Allegations).

Period of Investigation

The period of investigation is April 1, 2020, through March 31, 2021.

Scope of the Investigation

The product covered by this investigation is raw honey from Brazil. For a complete description of the scope of this investigation, see the appendix.

Significant Ministerial Error

In accordance with 19 CFR 351.224(e), Commerce “will analyze any comments received and, if appropriate, correct any significant ministerial error by amending the preliminary determination. . .” A ministerial error is defined in 19 CFR 351.224(f) as “an error in addition, subtraction, or other arithmetic function clerical error resulting from inaccurate copying, duplication, or the like, and any other similar type of unintentional error which the Secretary considers ministerial.” A significant ministerial error is defined as a ministerial error, the correction of which, singly or in combination with other errors, would result in: (1) A change of at least five absolute percentage points in, but not less than 25 percent of, the weighted-average dumping margin calculated in the original preliminary determination; or (2) a difference between a weighted-average dumping margin of zero or de minimis and a weighted-average dumping margin of greater than de minimis or vice versa.⁴

⁴ See 19 CFR 351.224(g)(1) and (2).

Ministerial Error Allegations

Supermel timely alleged that Commerce made a ministerial error involving the calculation of Supermel's general and administrative (G&A) expenses and interest expenses. Supermel alleged that Commerce, in calculating these expenses, treated the company's reported per-kilogram figures as expense ratios, rather than as absolute amounts, and then it used the resulting expenses in its sales-below-cost test and constructed value calculations; Supermel alleges that this inflated the preliminary weighted-average dumping margin calculation for Supermel.⁵ After analyzing this allegation, we determine that we made a significant ministerial error in the Preliminary Determination with respect to the application of Supermel's G&A and interest expenses.⁶ For a detailed discussion of the aforementioned ministerial error allegation, as well as Commerce's analysis of Supermel's comments, see the Ministerial Error Memorandum.

⁵ See Supermel's Ministerial Error Allegations at 2-3.

⁶ See Memorandum, “Antidumping Duty Investigation of Raw Honey from Brazil: Allegation of a Ministerial Error in the Preliminary Determination,” dated concurrently with this notice (Ministerial Error Memorandum).

Pursuant to 19 CFR 351.224(g)(1), Commerce's failure to apply Supermel's G&A and interest expenses is significant because its correction results in a change of at least five absolute percentage points in, but not less than 25 percent of, the estimated weighted-average dumping margin calculated in the Preliminary Determination (i.e., a change from an estimated weighted-average dumping margin of 29.61 percent to 10.52 percent). Therefore, we are correcting the ministerial error and amending our Preliminary Determination accordingly.⁷

⁷ Id.

Amended Preliminary Determination

We are amending the Preliminary Determination to reflect the correction of a significant ministerial error made in the margin calculation for Supermel in accordance with 19 CFR 351.224(e). In addition, because the preliminary all-others rate was based, in part, on the estimated weighted-average dumping margin calculated for Supermel, we are also amending the all-others rate.⁸ As a result of the correction of the ministerial error, the revised estimated weighted-average dumping margin for Supermel and the revised all-others rate are as follows:

⁸ In the Preliminary Determination, the rate calculated for the other mandatory respondent, Melbras Importadora E Exportadora Agroindustrial Ltda., was 7.89 percent. This rate was used along with Supermel's amended preliminary rate to establish the amended all-others rate, 9.38 percent. See Memorandum, “Less-Than-Fair-Value Investigation of Raw Honey from Brazil: Amended Calculation of All-Others Rate,” dated concurrently with this notice.

Exporter/producer | Estimated weighted- average dumping margin (percent)
Apiário Diamante Comercial Exportadora Ltda/Apiário Diamante Produção e Comercial de Mel Ltda ⁹ | 10.52
All Others | 9.38

Amended Cash Deposits and Suspension of Liquidation

⁹ As discussed in the Preliminary Determination and the Single Entity Memorandum, we have determined that Apiário Diamante Comercial Exportadora Ltda and Apiário Diamante Produção e Comercial de Mel Ltda are affiliated and should be treated as a single entity.

The collection of cash deposits and suspension of liquidation will be revised according to the rates established in this amended preliminary determination, in accordance with section 733(d) of the Tariff Act of 1930, as amended (the Act). Because these amended rates result in reduced cash deposit rates, they will be effective retroactively to November 23, 2021, the date of publication of the Preliminary Determination.

International Trade Commission Notification

In accordance with section 733(f) of the Act, we intend to notify the International Trade Commission of our amended preliminary determination.

Disclosure

We intend to disclose the calculations performed to parties in this proceeding within five days after public announcement of the amended preliminary determination, in accordance with 19 CFR 351.224.

Notification to Interested Parties

This amended preliminary determination is issued and published in accordance with sections 733(f) and 777(i) of the Act, and 19 CFR 351.224(e).

Dated: December 10, 2021.
Ryan Majerus,
Deputy Assistant Secretary for Policy and Negotiations, Performing the Non-Exclusive Functions and Duties of The Assistant Secretary for Enforcement and Compliance.

Appendix—Scope of the Investigation

The merchandise covered by this investigation is raw honey. Raw honey is honey as it exists in the beehive or as obtained by extraction, settling and skimming, or coarse straining. Raw honey has not been filtered to a level that results in the removal of most or all of the pollen, e.g., a level that removes pollen to below 25 microns. The subject products include all grades, floral sources and colors of raw honey and also include organic raw honey.

Excluded from the scope is any honey that is packaged for retail sale (e.g., in bottles or other retail containers of five (5) lbs. or less).

The merchandise subject to this investigation is currently classifiable under statistical subheading 0409.00.0005, 0409.00.0035, 0409.00.0045, 0409.00.0056, and 0409.00.0065 of the Harmonized Tariff Schedule of the United States (HTSUS). Although the HTSUS subheadings are provided for convenience and customs purposes, the written description of the scope of this investigation is dispositive.

[FR Doc. 2021-27375 Filed 12-16-21; 8:45 am]

BILLING CODE 3510-DS-P